DEPARTMENT OF TRANSPORTATION

Federal Aviation Administration

Proposed Advisory Circular; Bird Ingestion Certification Standards

AGENCY: Federal Aviation Administration, DOT.

ACTION: Notice of availability of proposed advisory circular and request for comments.

SUMMARY: This notice announces the availability of proposed Advisory Circular (AC) No. 33.76-1, Bird Ingestion Certification Standards.

DATES: Comments must be received on or before June 19, 2000.

ADDRESSES: Send all comments on the proposed AC to the Federal Aviation Administration, Attn: Engine and Propeller Standards Staff, ANE-110, Engine and Propeller Directorate, Aircraft Certification Service, 12 New England Executive Park, Burlington, MA, 01803-5299.

FOR FURTHER INFORMATION CONTACT: Marc Bouthillier, Engine and Propeller Standards Staff, ANE-110, at the above address, telephone (781) 238-7120, fax (781) 238-7199. A copy of the subject AC may also be obtained electronically by writing to the following Internet address: “marc.bouthillier@faa.gov”. Additionally, you may obtain a copy of the draft AC directly from the internet at the following address http://www.faa.gov/avr/air/acs/draftach.htm.

SUPPLEMENTARY INFORMATION:

Comments Invited

A copy of the subject AC may be obtained by contacting the person named above under FOR FURTHER INFORMATION CONTACT. Interested persons are invited to comment on the proposed AC, and to submit such written data, views, or arguments as they desire. Commenters must identify the subject of the AC, and subject comments in duplicate to the address specified above. All communications received on or before the closing date for comments will be considered by the Engine and Propeller Directorate, Aircraft Certification Service, before issuance of the final AC.

Background

This draft advisory circular (AC) provides guidance and acceptable methods, but not the only methods, that may be used to demonstrate compliance with the bird ingestion requirements of § 33.76 of the Federal Regulations, Title 14 of the Code of Federal Regulations once that regulation becomes final. A proposal to amend the Federal Aviation Regulations by adding a new section, § 33.76, was published in the Federal Register on December 11, 1998 (64 FR 68635). Although this draft AC does refer to regulatory requirements that would be mandatory, this draft AC is not, in itself, mandatory. This AC would neither change any regulatory requirements nor authorizes changes in or deviations from the regulatory requirements.

This effort was adopted as a part 33 and Joint Aviation Regulations for engines (JAR-E) harmonization project and was selected as an Aviation Rulemaking Advisory Committee (ARAC) project. This draft AC provides information and guidance that addresses Federal Aviation Administration (FAA) type certification standards for aircraft turbine engines with regard to bird ingestion. The requirements under § 33.76 reflect recent analysis of the bird threat encountered in service by turbine engine powered aircraft.

This advisory circular, published under the authority granted to the Administrator by 49 U.S.C. 106(g), 40113, 44701-44702, 44704, provides guidance for these proposed requirements.

Issued in Burlington, Massachusetts, on April 12, 2000.
Thomas A. Boudreau,
Acting Manager, Engine and Propeller Directorate, Aircraft Certification Service.

[FR Doc. 00-9839 Filed 4-18-00; 8:45 am]

BILLING CODE 4910-13-M